DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 F 67772-76, dated October 14, 1980, and corrected at 45 FR 69296, October 20, 1980, as amended most recently at 70 FR 65901-65902, dated November 1, 2005) is amended to reorganize the Pittsburgh Research Laboratory, National Institute for Occupational Safety and Health.

Section C-B, Organization and Functions, is hereby amended as follows:

After the title for the Pittsburgh Research Laboratory (CCB), delete the functional statement and insert the following:

Pittsburgh Research Laboratory (CCB). (1) Provides national and international leadership for prevention of work-related illness, injury, and fatalities of mine workers; (2) carries out the surveillance of fatal and non-fatal traumatic injuries, occupational diseases, health and safety hazards, and the use of control technology and protective equipment for prevention of injury and disease in mining; (3) conducts research on the measurement, monitoring, and control of dusts and other respiratory hazards to which miners may be exposed; (4) conducts laboratory and field research to evaluate and control hearing loss and occupational noise exposure in mining; (5) conducts field investigations and laboratory studies on mining injuries and the means for their prevention; (6) conducts laboratory and field investigations to better understand the causes of catastrophic events that may lead to fatalities, such as fires, explosions, and structural or ground failures; (7) develops sensors, predictive models, engineering controls, and improved practices to reduce miners' risk for injury or death; (8) conducts laboratory and field research to develop interventions and methods to reduce repetitive/cumulative musculoskeletal injuries; (9) translates research findings, new control technology concepts, and newly identified approaches to health and safety problems affecting miners into usable effective interventions; (10) assesses the effectiveness of interventions to prevent occupational injuries and illnesses; and (11) utilizes the unique facilities and resources of the laboratory, including its three mines: the experimental coal mine, the safety research coal mine, and the Lake Lynn experimental hard rock mine, as a national resource in collaboration with other NIOSH units as well as other departments and agencies of the government to address problems in heavy construction and other areas with common links to mining problems.

Mining Respiratory Hazards Control Branch (CCBC). (1) Develops, plans, and implements a program of research to develop or improve personal and area direct reading instruments for measuring mining contaminants including, but not limited to, respirable dust, silica, and diesel particulate; (2) conducts field tests, experiments and demonstrations of new technology for monitoring and assessing mine air quality; (3) designs, plans, and implements laboratory and field research to develop airborne hazard reduction control technologies; (4) carries out field surveys in mines to identify work organization strategies that could result in reduced dust and diesel particulate exposure; (5) evaluates the performance, economics, and technical feasibility of engineering control strategies, novel approaches, and the application of new or emerging technologies for underground and surface mine dust and respiratory hazard control systems; and (6) develops and evaluates implementation strategies for using newly developed monitors and control technology for exposure reduction or prevention.

Hearing Loss Prevention Branch (CCBD). (1) Plans and conducts laboratory and field research on noise-induced hearing loss in miners; (2) conducts field dosimetric and audiometric surveys to asses the extent and severity of the problem, to identify those mining segments in greatest need of attention, and to objectively track progress in meeting hearing loss prevention goals; (3) conducts field and laboratory research to identify noise generation sources and to identify those areas most amenable to intervention activities; (4) develops, tests, and demonstrates new control technologies for noise reduction; (5) evaluates the technical and economic feasibility of controls; (6) develops, evaluates, recommends and empowers workers with implementation strategies to promote the adoption and use of noise reduction technology; and (7) improves the reliability of communication in noise workplaces.

Mining Injury Prevention Branch (CCBE). (1) Conducts laboratory, field, and computer modeling research to focus on human physiological capabilities and limitations and their interactions with mining jobs, tasks, equipment, and the mine work environment; (2) assesses the health and safety relevance of mining equipment design features using scientific and engineering techniques, and analyses of reported case-studies of mining incidents that lead to traumatic injuries or fatalities; (3) designs and conducts epidemiological research studies to identify and classify risk factors that cause, or may cause, traumatic and cumulative/repetitive injuries to miners; (4) designs, builds, and tests proposed interventions, including demonstrations of proposed technologies using laboratory mock-ups, full-scale demonstrations at the laboratory's experimental mines, or through field evaluation in operating mines; (5) evaluates and recommends implementation strategies for injury prevention and control technologies developed by the laboratory; (6) conducts human factors research and provides effective training and work organization techniques for mining; and (7) conducts laboratory and field research on electrical safety issues in mining.

Disaster Prevention and Response Branch (CCBG). (1) Conducts laboratory and field investigations of catastrophic events such as mine fires, inundations, and explosions to better understand cause and effect relationships that initiate such events; (2) develops new or improved strategies and technologies for mine fire prevention, detection, control, and suppression; (3) investigates and develops an understanding of the critical parameters and their interrelationships governing the mitigation and propagation of explosions, and develops and facilitates the implementation of interventions to prevent mine explosions; (4) evaluates and recommends implementation strategies for disaster prevention and response; (5) develops technologies and guidelines to mitigate or prevent mine inundations; (6) works with the mining industry and other government agencies to ensure a network of well-trained mine rescue teams exists; (7) develops and/or evaluates new technology for mine rescue teams; (8) develops training curricula for mine rescue and firefighting in coordination with other health education, health communication, and other information and education activities of the institute; and (9) identifies and evaluates emerging health and safety issues as mining operations move into more challenging and dangerous geologic conditions.

Surveillance and Research Support Branch (CCBH). (1) Collects and analyzes health and safety data related to mining occupations in order to report on the overall incidence, prevalence and significance of occupational safety and health problems in mining; (2) describes trends in incidence of mining-related fatalities, morbidity, and traumatic injury; (3) conducts surveillance on the use of new technology, the use of engineering controls, and the use of protective equipment in the mining sector; (4) coordinates surveillance activities with other NIOSH surveillance initiatives; (5) provides statistical support for surveillance and research activities of the laboratory; (6) analyzes and assists in the development of research protocols for developing studies; (7) coordinates planning, analysis, and evaluation of the PRL research program for achieving organizational goals; (8) collaborates with research staff to translate findings from laboratory research to produce compelling products that motivate the mining sector to engage in improved injury control and disease prevention activities; and (9) coordinates with other health communication, health education, and information dissemination activities within NIOSH and CDC to ensure that mining research information is effectively integrated into the CDC dissemination and intervention strategies.

Rock Safety Engineering Branch (CCBJ). (1) Conducts laboratory and field investigations of catastrophic events such as catastrophic structural or ground failures to better understand cause and effect relationships that initiate such events; (2) designs, evaluates, and implements appropriate intervention strategies and engineering controls to prevent ground failures; (3) develops, tests, and promotes the use of rock safety engineering prediction and risk evaluation systems for control or reduction of risk; and (4) addresses health and safety issues resulting from the use of explosives, and develops criteria and tests to determine their suitability for mine use and transportation.

Delete in their entirety the title and functional statement for the Surveillance, Statistics and Research Support Activity (CC22).

Dated: November 4, 2005.
William H. Gimson,
Chief Operating Officer, Centers for Disease Control and Prevention (CDC).

[FR Doc. 05-23037 Filed 11-21-05; 8:45 am]

BILLING CODE 4160-18-M